DEPARTMENT OF COMMERCE

National Oceanic and Atmospheric Administration

RIN 0648-XA608

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene a public meeting.

DATES: The meeting will be held August 15-19, 2011.

ADDRESSES: The meeting will be held at the Crowne Plaza Hotel, 6121 North IH-35, Austin, TX 78752; telephone: (512) 323-5466.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Thursday, August 18, 2011

9 a.m.—The Council meeting will begin with a Call to Order and Introductions.

9:10 a.m.-9:25 a.m.—The Council will have an Investiture Ceremony for New Members.

9:25 a.m. to-9:30 a.m.—The Council will review the agenda and approve the minutes.

9:30 a.m.-9:45 a.m.—The Council will receive a presentation titled “Fisheries 101”.

9:45 a.m.-11:30 a.m.—The Council will review and discuss reports from the committee meetings as follows: Outreach and Education; Advisory Panel Selection; Joint Mackerel, Reef Fish and Red Drum; Artificial Reef; Data Collection; Budget/Personnel; and Administrative Policy.

12:30 p.m.-4:30 p.m.—The Council will receive public testimony on exempted fishing permits (EFPs), if any; Final Actions on Reef Fish Amendment 32, the Generic Annual Catch Limits/Accountability Measures Amendment and Joint Amendment 18 to the Coastal Migratory Pelagics Fishery Management Plan; Action 4 to the Comprehensive Ecosystem-Based Amendment 2; and a regulatory amendment to set total allowable catch and bag limits for red grouper; the Council will also hold an open public comment period regarding any other fishery issues of concern. People wishing to speak before the Council should complete a public comment card prior to the comment period.

4:30 p.m.-4:45 p.m.—The Council will review and discuss the Mackerel Committee Report.

Friday, August 19, 2011

8:30 a.m.-12 p.m.—The Council will review and discuss reports from the committee meetings as follows: Sustainable Fisheries/Ecosystem and Reef Fish.

12 p.m.-12:15 p.m.—Other Business items will follow.

12:15 p.m. to 12:30 p.m.—The Council will conduct their election of the new Chair and Vice Chair.

The Council will conclude its meeting at approximately 12:45 p.m.

Committees

Monday, August 15, 2011

9 a.m.-12 p.m.—New Council Member Orientation.

1:30 p.m.-2 p.m.—The Outreach and Education Committee will discuss recommendations.

2 p.m.-5 p.m.—Sustainable Fisheries/Ecosystem Committee will review and discuss the Ecosystem Scientific and Statistical committee report; receive a presentation on Allocation by Buzz Thompson; and discuss final action on the Generic Annual Catch Limits/Accountability Measures Amendment.

5 p.m.-5:15 p.m.—Closed Session—Full Council will meet to receive a litigation briefing.

Recess—

Tuesday, August 16, 2011

8:30 a.m.-12 noon and 1:30 p.m.-5 p.m.—Reef Fish Management Committee will meet to discuss final action on Regulatory Amendment for Red Grouper Total Allowable Catch & Bag Limit and Amendment 32—Gag Rebuilding & Gag Annual Catch limit; review a Draft Regulatory Amendment for Fall Red Snapper Season; receive a presentation on Red Snapper Economics by Wade Griffin; discuss a Draft of Amendment 35—Greater Amberjack; and review the Ad Hoc Red Snapper Individual Fishing Quota 5-Year Review and Commercial Reef Fish Individual Fishing Quota Advisory Panel Reports.

Recess—

Wednesday, August 17, 2011

8:30 a.m.-9 a.m.—Closed Session—The Advisory Panel Selection Committee/Full Council will meet to appoint an Ad Hoc Headboat Advisory Panel and to appoint retiring Council Members to Advisory Panels.

9 a.m.-9:30 a.m.—Closed Session—The Budget/Personnel Committee/Full Council will meet to discuss employment matters.

9:30 a.m.-10 a.m.—The Budget/Personnel Committee will review and discuss the Quarterly Budget.

10 a.m.-11 a.m.—The Mackerel Management Committee will discuss the final action on Amendment 18 to the coastal migratory Pelagics Fishery Management Plan.

11 a.m.-11:30 a.m.—The Joint Mackerel, Reef Fish and Red Drum Management Committees will review the proposed Rule Implementing the Aquaculture Fishery Management Plan.

1 p.m.-2 p.m.—The Artificial Reef Committee will receive a presentation from the Bureau of Ocean Energy Management, Regulation and Enforcement (BOEMRE); discuss Oil Rig Removals; Review and discuss the status of Artificial Reefs in Fishery Management.

2 p.m.-3 p.m.—The Data Collection Committee will receive a presentation on the I-Snapper Program; Discuss creating an Ad Hoc Advisory Panel to Collect Private Recreational Angler Data.

3 p.m.-3:30 p.m.—The Administrative Policy Committee will review and discuss the Council Strategic Plan; SEDAR Guidelines; and Ad Hoc Advisory Panel Membership.

Recess—

Immediately following the Committee Recess will be the Informal Question & Answer Session on Gulf of Mexico Fishery Management Issues.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council (see ADDRESSES) at least 5 working days prior to the meeting.

Dated: July 26, 2011.
Tracey L. Thompson,
Acting Director, Office of Sustainable Fisheries, National Marine Fisheries Service.

[FR Doc. 2011-19253 Filed 7-28-11; 8:45 am]

BILLING CODE 3510-22-P